DEPARTMENT OF JUSTICE

Notice of Lodging of Proposed Consent Decree Under The Clean Air Act

On January 30, 2019, the U. S. Department of Justice (DOJ) lodged a proposed Consent Decree with the United States District Court for the Northern District of Ohio in United States v. Toledo Refining Company, Civil Action No. 3:19-cv-00232. The lodging of the proposed Decree immediately followed DOJ's filing in the same court of a civil complaint (Complaint) against Toledo Refining Company (Toledo Refining).

The proposed Consent Decree resolves Clean Air Act claims in the Complaint by the United States on behalf of the U.S. Environmental Protection Agency (EPA). Under the proposed Decree, Toledo Refining agrees, among other things, to undertake measures to improve its flare gas recovery system at its oil refinery facility in Oregon, Ohio. Toledo Refining will adhere to detailed flare gas recovery requirements and provisions addressing the Leak Detection and Repair Program, pay a civil penalty, perform a Supplemental Environmental Project, and conduct three mitigation projects.

The publication of this notice opens a period for public comment on the proposed Consent Decree. Comments should be addressed to the Assistant Attorney General, Environment and Natural Resources Division, and should refer to United States v. Toledo Refining Company, D.J. Ref. No. 90-5-2-1-10924. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: http://www.justice.gov/enrd/consent-decrees.

We will provide a paper copy of the proposed Consent Decree upon written request and payment of reproduction costs. Please mail your request and payment to: Consent Decree Library, U.S. DOJ—ENRD, P.O. Box 7611, Washington, DC 20044-7611.

Please enclose a check or money order for $37.75 (25 cents per page reproduction cost), payable to the United States Treasury.

Randall M. Stone,
Acting Assistant Section Chief, Environmental Enforcement Section, Environment and Natural Resources Division.

[FR Doc. 2019-01109 Filed 2-4-19; 8:45 am]

BILLING CODE 4410-15-P